DEPARTMENT OF THE INTERIOR

Bureau of Land Management

[BLM_AZ_FRN_MO#4500176838]

Notice of BLM Arizona Resource Advisory Council Meetings

AGENCY: Bureau of Land Management, Interior.

ACTION: Notice of public meetings.

SUMMARY: In accordance with the Federal Land Policy and Management Act of 1976, as amended, and the Federal Advisory Committee Act of 1972, the U.S. Department of the Interior, Bureau of Land Management (BLM) Arizona Resource Advisory Council (Council) will meet as follows.

DATES: The Council will meet February 28-29 and April 24-25, 2024. Each meeting day will begin at 8 a.m. and conclude at 4:30 p.m. mountain time.

ADDRESSES: Meetings will be held in-person at the BLM Arizona State Office, One North Central Avenue, Suite 800, Phoenix, AZ 85004-4427, and a virtual participation option will be available. Virtual participation instructions, and final agendas will be confirmed for the public via a BLM news release, social media, on the Council's web page at https://www.blm.gov/get-involved/resource-advisory-council/near-you/arizona, and through personal contact at least 2 weeks prior to the meeting.

Written comments for the Council may be sent electronically in advance of the scheduled meeting to Dolores Garcia, Public Affairs Specialist, at dagarcia@blm.gov, or in writing to BLM Arizona State Office/AZ-912, One North Central Avenue, Suite 800, Phoenix, Arizona, 85004-4427. All comments will be provided to the Council.

FOR FURTHER INFORMATION CONTACT: Dolores Garcia, Public Affairs Specialist, BLM Arizona State Office, telephone: (602) 417-9241, email: dagarcia@blm.gov. Individuals in the United States who are deaf, deafblind, hard of hearing, or have a speech disability may dial 711 (TTY, TDD, or TeleBraille) to access telecommunications relay services to contact Ms. Garcia. Individuals outside the United States should use the relay services offered within their country to make international calls to the point-of-contact in the United States. Please request sign language interpreter services, assistive listening devices, or other reasonable accommodations early. We ask that you contact the person listed above at least 7 days before the meeting to give the Department of the Interior sufficient time to process your request. All reasonable accommodation requests will be managed on a case-by-case basis.

SUPPLEMENTARY INFORMATION: The 15-member Council advises the Secretary of the Interior, through the BLM, on a variety of planning and management issues associated with public land management in Arizona.

Agenda items for the February meeting include orientation for newly appointed members; updates on BLM project work in compliance with Department of the Interior priorities; resource management updates, including the latest initiatives; District updates; mandatory ethics training; Federal Land Recreation Enhancement Act Training; and a discussion on upcoming fee proposals.

Agenda items for the April meeting include updates on BLM project work in compliance with Department of the Interior priorities; resource management updates, including the latest initiatives; District updates; and a presentation and recommendations on recreation business plan updates and fee amendment proposals from the U.S. Forest Service (Arizona Forests).

Public comment periods will be offered each day. Specific times will be noted on the agenda. Before including your address, phone number, email address, or other personal identifying information in your comment, you should be aware that your entire comment—including your personal identifying information—may be made publicly available at any time. While you can ask us in your comment to withhold your personal identifying information from public review, we cannot guarantee that we will be able to do so.

Detailed minutes for Council meetings will be maintained in the BLM Arizona State Office. Minutes will also be posted to the Council's web page at https://www.blm.gov/get-involved/resource-advisory-council/near-you/arizona.

(Authority: 43 CFR 1784.4-2)

Raymond Suazo,
Arizona State Director.

[FR Doc. 2024-00811 Filed 1-17-24; 8:45 am]

BILLING CODE 4331-20-P